DEPARTMENT OF TRANSPORTATION

Maratime Administration

[Docket No MARAD 2006-26228]

Draft Environmental Impact Statement (EIS) for the Update of the Kahului Harbor, Maui County, HI Master Plan

AGENCY: Department of Transportation, Maritime Administration.

ACTION: Notice.

SUMMARY: Pursuant to section 102(2)(c) of the National Environmental Policy Act of 1969 (NEPA), as implemented by the Council on Environmental Quality regulations (40 CFR parts 1500-1508), the U.S. Department of Transportation Maritime Administration (MARAD) announces publication of a draft EIS for improvements to Kahului Harbor, Maui County, needed to address the community's needs for commercial harbor facilities through 2030. We are issuing this notice in compliance with NEPA and implementing regulations for the following purposes: (1) To advise other agencies and the public of our action; and (2) to announce a public meeting.

DATES: Comments on this DEA must be received by February 28, 2008. The public meeting will be held on January 23, 2008, at The Cameron Center, 95 Mahalani Street Wailuku, Maui, Hawaii 96793, from 6 p.m. to 9 p.m.

To Comment on the Draft EIS: You can send written comments either to the preparers or to the Federal sponsor—By Mail: to John Kirkpatrick, Belt Collins Hawaii, 2153 N. King Street, Suite 200, Honolulu, HI, 96819.

By Mail: to Docket Management Facility, U.S. Department of Transportation, 1200 New Jersey Avenue, SE., W12-140, Washington, DC 20590.

By the Internet: The complete application is given in DOT docket MARAD 2006-26228 at http://www.regulations.gov.

FOR FURTHER INFORMATION CONTACT: Address requests for more information related to the EIS or requests to be added to the mailing list for this project to John Kirkpatrick, Belt Collins Hawaii, 2153 N. King Street, Suite 200, Honolulu, HI, 96819, e-mail: jkirkpatrick@beltcollins.com. for agency information, please contact Daniel E Yuska Jr., Environmental Protection Specialist, U.S Maritime Administration, 1200 New Jersey Avenue, SE., Washington, DC, 20590, e-mail: daniel.yuska@dot.gov or Dean Watase, Planning Branch, Harbors Division, Hawaii State Department of Transportation, 79 S. Nimitz Highway, Honolulu, HI 96813, e-mail: dean.watase@hawaii.gov.

For access to the docket to read background documents or comments received, go to http://dms.dot.gov at any time or to the plaza level of the Southeast Federal Center Building, 1200 New Jersey Avenue, SE., W12-140, between 9 a.m. and 5 p.m., Monday through Friday, except Federal Holidays.

SUPPLEMENTARY INFORMATION: The Hawaii State Department of Transportation (HI DOT) has previously conducted planning for Kahului Harbor, leading to a 2025 Master Plan and Environmental Assessment. However, demand for harbor facilities has been much greater than anticipated, and space for current operations is very tight. The 2025 Master Plan called for development of new pier and harbor space at the west breakwater of the harbor. HI DOT has conducted a new master planning process, which has led to new alternatives to meet current and future harbor needs. The west breakwater expansion and other steps to help assure that the harbor supports the continuing prosperity and quality of life of Maui County are under consideration.

The Draft EIS addresses the following issues: (1) Demand for additional space and facilities at Kahului; (2) organization of harbor space and facilities to promote and preserve orderly cargo operations, passenger operations, and recreational activity; and (3) environmental impacts of proposed alternatives. The Preferred Alternative involves development of passenger facilities in the West Breakwater area, along with expansion of Piers 1 and 2 and development of new cargo handling areas near those piers. Significant impacts could affect corals and surf sites.

Written comments will be available at the Document Management System Web site (http://dms.dot.gov), as part of docket MARAD-2006-26228 at the end of the comment period.

Authority: 49 CFR 1.66.

By order of the Maritime Administrator.
Dated: January 7, 2008.
Christine Gurland,
Acting Secretary, Maritime Administration.

[FR Doc. E8-436 Filed 1-11-08; 8:45 am]

BILLING CODE 4910-81-P